DEPARTMENT OF TRANSPORTATION

Federal Aviation Administration

14 CFR Part 39

[Docket No. 2004-CE-01-AD; Amendment 39-13943; AD 2005-01-18]

RIN 2120-AA64

Airworthiness Directives; Raytheon Aircraft Company Beech 100, 200, and 300 Series Airplanes

Correction

In rule document 05-716 beginning on page 2941 in the issue of Wednesday, January 19, 2005 make the following correction:

§39.13 [Corrected]

On page 2942, in the third column, § 39.13(c), the table should appear as follows:

Model | Serial Nos.
(1) A100-1 (U-21J) | BB-3 through BB-5
(2) 200 and B200 | BB-2 and BB-6 through BB-1462.
(3) A200 (C-12A) and A200 (C-12C) | BC-1 through BC-75 and BD-1 through BD-30.
(4) A200C (UC-12B) | BJ-1 through BJ-66.
(5) A200CT (C-12D). | BP-1, BP-22, and BP-24 through BP-51.
(6) A200CT (FWC-12D) | BP-7 through BP-11.
(7) A200CT (RC-12D) | GR-1 through GR-13.
(8) A200CT (C-12F) | BP-52 through BP-63.
(9) A200CT (RC-12G) | FC-1 and FC-3.
(10) A200CT (RC-12H) | GR-14 through GR-19.
(11) A200CT (RC-12K) | FE-1 through FE-9.
(12) A200CT (RC-12P) | FE-10 through FE-24.
(13) A200CT (RC-12K) | FE-25 through FE-31.
(14) 200C and B200C | BL-1 through BL-72 and BL-124 through BL-138.
(15) 200CT and B200CT | BN-1 through BN-4.
(16) 200T and B200T | BT-1 through BT-38.
(17) B200C (C-12F) | BL-73 through BL-112 and BL-118 through BL-123.
(18) B200C (C-12F) | BP-64 through BP-71.
(19) B200C (UC-12F) | BU-1 through BU-10.
(20) B200C (UC-12M) | BV-1 through BV-12.
(21) B200CT | FG-1 and FG-2.
(22) 300 | FA-1 through FA-228.
(23) 300 | FF-1 through FF-19.
(24) B300 | FL-1 through FL-103.
(25) B300C | FM-1 through FM-8.
(26) B300C | FN-1.

[FR Doc. C5-716 Filed 2-1-05; 8:45 am]

BILLING CODE 1505-01-D

DEPARTMENT OF TRANSPORTATION

Federal Aviation Administration

Notice of Intent To Rule on Application 05-04-C-00-SAT To Impose and Use the Revenue From a Passenger Facility Charge (PFC) at San Antonio International Airport, San Antonio, TX

Correction

In notice document 05-123 beginning on page 936 in the issue of Wednesday, January 5, 2005, make the following correction:

On page 936, in the third column, under the heading “DATES”, in the second line, “January 4, 2005” should read “February 4, 2005”.

[FR Doc. C5-123 Filed 2-1-05; 8:45 am]

BILLING CODE 1505-01-D